DEPARTMENT OF TRANSPORTATION

Federal Aviation Administration

14 CFR Part 71

[Airspace Docket No. 00-ACE-7]

Amendment to Class E Airspace; Hampton, IA; Correction

AGENCY: Federal Aviation Administration, DOT.

ACTION: Direct final rule; confirmation of effective date and correction.

SUMMARY: This document confirms the effective date of a direct final rule which revises the Class E airspace at Hampton, IA, and corrects an error in the coordinates for the Hampton Municipal Airport, Airport Reference Point (ARP) and the Hampton Nondirectional Radio Beacon (NDB) as published in the Federal Register May 23, 2000 (65 FR 33250), Airspace Docket No. 00-ACE-7.

DATES: The direct final rule published at 65 FR 33250 is effective on 0901 UTC, October 5, 2000.

This correction is effective on October 5, 2000.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On May 23, 2000, the FAA published in the Federal Register a direct final rule; request for comments which revises the Class E airspace at Hampton, IA (FR document 00-12821, 65 FR 33250, Airspace Docket No. 00-ACE-7). An error was subsequently discovered in the coordinates for the Hampton Municipal Airport ARP and the Hampton NDB. This action corrects those errors. After careful review of all available information related to the subject presented above, the FAA has determined that air safety and the public interest require adoption of the rule. The FAA has determined that these corrections will not change the meaning of the action nor add any additional burden on the public beyond that already published. This action corrects the errors in the coordinates of the Hampton Municipal Airport ARP and the Hampton NDB and confirms the effective date to the direct final rule.

The FAA uses the direct final rulemaking procedure for a non-controversial rule where the FAA believes that there will be no adverse public comment. This direct final rule advised the public that no adverse comments were anticipated, and that unless a written adverse comment, or a written notice of intent to submit such an adverse comment, were received within the comment period, the regulation would become effective on October 5, 2000. No adverse comments were received, and thus this notice confirms that this direct final rule will become effective on that date.

Correction to the Direct Final Rule

Accordingly, pursuant to the authority delegated to me, coordinates for the Hampton Municipal Airport ARP and the Hampton NDB as published in the Federal Register on May 23, 2000 (65 FR 33250), (Federal Register Document 00-12821; page 33251, column two) are corrected as follows:

§ 71.1 [Corrected]

ACE IA E5 Hampton, IA [Corrected]

On page 33251, in the second column, after Hampton Municipal Airport, IA, correct the coordinates by removing (lat. 42°43′26″N., long. 93°13′35″W.) and substituting (lat. 42°43′25″N., long. 93°13′35″W.) and after Hampton NDB correct the coordinates by removing (lat. 42°43′32″N., long. 93°13′30″W.) and substituting (42°43′31″N., long. 93°13′30″W.)

Issued in Kansas City, MO on July 14, 2000.
Richard L. Day,
Acting Manager, Air Traffic Division, Central Region.

[FR Doc. 00-19520 Filed 8-1-00; 8:45 am]

BILLING CODE 4910-13-M